DEPARTMENT OF HEALTH AND HUMAN SERVICES

National Biodefense Science Board

AGENCY: Office of the Assistant Secretary for Preparedness and Response (ASPR), Department of Health and Human Services (HHS).

ACTION: Notice.

SUMMARY: The National Biodefense Science Board (NBSB) is authorized under Section 319M of the Public PHS Act, as added by Section 402 of the Pandemic and All-Hazards Preparedness Act of 2006 and amended by Section 404 of the Pandemic and All-Hazards Preparedness Reauthorization Act. The Board is governed by the Federal Advisory Committee, which sets forth standards for the formation and use of advisory committees. The NBSB provides expert advice and guidance on scientific, technical, and other matters of special interest to the Department regarding current and future chemical, biological, nuclear, and radiological agents, whether naturally occurring, accidental, or deliberate.

Background: The May 13, 2020, NBSB public teleconference is dedicated to the discussion of recommendations on two topics: (1) NBSB Rapid medical countermeasures (MCM) for Disease X and (2) Integrating Clinical Disaster Response Training with Community and State Based Emergency Planning. We will post modifications to the agenda and/or topics on the NBSB meeting website, which is located at https://www.phe.gov/nbsb.

Availability of Materials: We will post all teleconference materials prior to the teleconference on May 13, 2020, on the website located at https://www.phe.gov/nbsb.

Procedures for Providing Public Input: Members of the public may attend the public teleconference via a toll-free call-in phone number, which is available on the NBSB website at https://www.phe.gov/nbsb.

FOR FURTHER INFORMATION CONTACT: Maxine Kellman, DVM, Ph.D., PMP, Alternate Designated Federal Official for National Advisory Committees, Washington, DC, Office (202) 260-0447 or email maxine.kellman@hhs.gov.

SUPPLEMENTARY INFORMATION: We encourage members of the public to provide written comments that are relevant to the NBSB public teleconference prior to May 13, 2020. Send written comments by email to nbsb@hhs.gov with “NBSB Public Comment” in the subject line. The NBSB Chair will respond to comments received by May 13, 2020, via email and/or during the public teleconference. Due to the Coronavirus Disease 2019 (COVID-19) pandemic response, there was an administrative delay with the posting of this Federal Register notice to announce the National Biodefense Science Board (NBSB) May 13, 2020 Public Teleconference.

Robert P. Kadlec,
Assistant Secretary for Preparedness and Response.

[FR Doc. 2020-10156 Filed 5-12-20; 8:45 am]

BILLING CODE 4150-37-P